DEPARTMENT OF THE INTERIOR

Bureau of Reclamation

[RR83550000, 223R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

XM Extraordinary maintenance

EXM Emergency extraordinary maintenance

FR Federal Register

IDD Irrigation and Drainage District

ID Irrigation District

M&I Municipal and industrial

O&M Operation and maintenance

OM&R Operation, maintenance, and replacement

P-SMBP Pick-Sloan Missouri Basin Program

RRA Reclamation Reform Act of 1982

SOD Safety of Dams

SRPA Small Reclamation Projects Act of 1956

USACE U.S. Army Corps of Engineers

WD Water District

WIIN Act Water Infrastructure Improvements for the Nation Act

Missouri Basin—Interior Region 5: Bureau of Reclamation, P.O. Box 36900, Federal Building, 2021 4th Avenue North, Billings, Montana 59101, telephone 406-247-7752.

New contract actions:

38. Water user entities responsible for payment of reimbursable costs for Reclamation projects in Colorado, Kansas, Montana, Nebraska, North Dakota, Oklahoma, South Dakota, Texas, and Wyoming: Contracts to be executed pursuant to Title IX of the Infrastructure Investment and Jobs Act of November 15, 2021 (Pub. L. 117-58), and/or contracts for XM pursuant to Title IX, Subtitle G of Omnibus Public Land Management Act of March 30, 2009 (Pub. L. 111-11). For more information, please see the Reclamation press release at https://www.usbr.gov/newsroom/#/news-release/4205.

39. Arkansas Valley Conduit, Fryingpan-Arkansas Project, Colorado: Consideration of a repayment contract for the Arkansas Valley Conduit.

Modified contract action:

36. Greenfields ID, Sun River Project, Montana: Consideration for a Lease of Power Privilege.

Discontinued contract action:

37. Colorado, Kansas, Montana, Nebraska, North Dakota, Oklahoma, South Dakota, Texas, and Wyoming: Potential repayment contracts pursuant to Section 40901 of the Infrastructure Investment and Jobs Act of November 15, 2021 (Pub. L. 117-58).

Completed contract actions:

20. Dana Ranch; Canyon Ferry Unit, P-SMBP; Montana: Consideration of a new long-term contract for an irrigation water supply. Contract executed on June 23, 2022.

21. Oxbow Ranch; Canyon Ferry Unit, P-SMBP; Montana: Consideration of a new long-term contract for an irrigation water supply. Contract executed on February 22, 2022.

23. Tom Jacobson; Canyon Ferry Unit, P-SMBP; Montana: Consideration of a new long-term contract for an irrigation water supply. Contract executed on April 27, 2022.

Upper Colorado Basin—Interior Region 7: Bureau of Reclamation, 125 South State Street, Room 8100, Salt Lake City, Utah 84138-1102, telephone 801-524-3864.

New contract actions:

35. Jicarilla Apache Nation, Navajo Project, New Mexico: Water service agreement between the Jicarilla Apache Nation and SIMCOE for delivery of 1,500 acre-feet of M&I water from the Jicarilla's Settlement Water from the Navajo Reservoir Supply. This agreement will have a term through December 31, 2026.

36. San Juan Water Commission and LOGOS Resources II, LLC; Animas-La Plata Project; New Mexico: Contract for the delivery of 1,500 acre-feet of M&I water from the Navajo Reservoir supply as supplemented via exchange of Animas-La Plata Project water at the confluence of the San Juan and Animas Rivers. This agreement will have a term through December 31, 2031.

37. San Juan Water Commission, Public Service Company of New Mexico, and the La Plata Conservancy District; Animas-La Plata Project; New Mexico: Contract for the delivery of 500 acre-feet of M&I water from the Navajo Reservoir supply as supplemented via exchange of Animas-La Plata Project water at the confluence of the San Juan and Animas Rivers. This agreement will have a term through December 31, 2032.

38. Grand Valley Water Users Association, Grand Valley Project, Colorado: Development of an XM contract pursuant to Title IX, Subtitle G of Public Law 111-11, to provide funds to the Association for the XM required for the Project.

39. Orchard City ID, Fruitgrowers Project, Colorado: Development of a Contributed Funds Agreement for work at Fruitgrowers Reservoir.

40. The Wyoming Water Development Commission; Seedskadee Project, Wyoming: The Commission has requested to acquire additional water in Fontenelle Reservoir. Reclamation is engaging in technical meetings with the Commission to explore the potential terms of a repayment contract, including the quantity of water available.

41. Water user entities responsible for payment of reimbursable costs for Reclamation projects in Colorado and Utah: Contracts to be executed pursuant to Title IX of the Infrastructure Investment and Jobs Act of November 15, 2021 (Pub. L. 117-58), and/or contracts for XM pursuant to Title IX, Subtitle G of Omnibus Public Land Management Act of March 30, 2009 (Pub. L. 111-11). For more information, please see the Reclamation press release at https://www.usbr.gov/newsroom/#/news-release/4205.

Completed contract actions:

6. Dolores Water Conservancy District, Dolores Project, Colorado: The District has requested a water service contract for 1,402 acre-feet of newly identified project water for irrigation. The proposed water service contract will provide 417 acre-feet of project water for irrigation of the Ute Enterprise and 985 acre-feet for use by the District's full-service irrigators. Contract executed on June 8, 2022.

18. Albuquerque Bernalillo County Water Utility Authority, San Juan-Chama Project, New Mexico: Reclamation is in negotiations to lease Abiquiu Reservoir Storage Space from the Authority. This agreement will be for a period of 2 years and may be extended for one additional 2-year term. This agreement may go through October 31, 2025, with the extension. The Authority and the USACE are currently reviewing the final draft contract. Contract executed on May 12, 2022.

Lower Colorado Basin—Interior Region 8: Bureau of Reclamation, P.O. Box 61470 (Nevada Highway and Park Street), Boulder City, Nevada 89006-1470, telephone 702-293-8192.

New contract action:

24. Western Water, LLC and Cibola Valley IDD, BCP, Arizona: Approve an amendment of Western's contract service area under Western's contract No. 16-XX-30-W0619, as amended (Western Contract), to include the previously excluded parcels of land; namely, the eastern halves of Assessor Parcel Nos. 301-08-003C and 301-08-003D. The inclusion of these lands within the Western Contract service area will make these lands eligible to receive Arizona fourth-priority Colorado River water from Western. Western has an Arizona fourth-priority Colorado River water entitlement under the Western Contract for an annual diversion of 536.48 acre-feet of Colorado River water for irrigation use within the Western Contract service area. Additionally, Reclamation will amend the District's contract service area under their contract to exclude Western lands. The exclusion of the Western lands from the District's contract service area will make the Western lands ineligible to receive Arizona fourth-, fifth-, and/or sixth-priority water from the District. The District's boundary will remain the same.

25. Water user entities responsible for payment of reimbursable costs for Reclamation projects in Arizona and California: Contracts to be executed pursuant to Title IX of the Infrastructure Investment and Jobs Act of November 15, 2021 (Pub. L. 117-58), and/or contracts for XM pursuant to Title IX, Subtitle G of Omnibus Public Land Management Act of March 30, 2009 (Pub. L. 111-11). For more information, please see the Reclamation press release at https://www.usbr.gov/newsroom/#/news-release/4205.

Columbia-Pacific Northwest—Interior Region 9: Bureau of Reclamation, 1150 North Curtis Road, Suite 100, Boise, Idaho 83706-1234, telephone 208-378-5344.

New contract actions:

22. J.R. Simplot Company and Micron Technology, Inc.; Boise Project, Arrowrock Division; Idaho: Request to renew M&I water service contract pursuant to Section 9(c)(2) of the Reclamation Project Act of 1939.

23. Water user entities responsible for payment of reimbursable costs for Reclamation projects in Idaho, Washington, and parts of Montana, Oregon, and Wyoming: Contracts to be executed pursuant to Title IX of the Infrastructure Investment and Jobs Act of November 15, 2021 (Pub. L. 117-58), and/or contracts for XM pursuant to Title IX, Subtitle G of Omnibus Public Land Management Act of March 30, 2009 (Pub. L. 111-11). For more information, please see the Reclamation press release at https://www.usbr.gov/newsroom/#/news-release/4205.

California-Great Basin—Interior Region 10: Bureau of Reclamation, 2800 Cottage Way, Sacramento, California 95825-1898, telephone 916-978-5250.

New contract actions:

45. CVP, California: Operational agreements, exchange agreements, contract amendments, and other agreements with Non-Federal Project Entities as required for Federal participation in non-Federal storage projects pursuant to the WIIN Act.

46. Sacramento River Settlement Contractors, CVP, California: Temporary agreements for the purchase of conserved water for fish and wildlife purposes.

47. Solano County Water Agency, Solano Project, California: Renewal of water service and OM&R contracts.

48. Water user entities responsible for payment of reimbursable costs for Reclamation projects in California, Nevada, and Oregon: Contracts to be executed pursuant to Title IX of the Infrastructure Investment and Jobs Act of November 15, 2021 (Pub. L. 117-58), and/or contracts for XM pursuant to Title IX, Subtitle G of Omnibus Public Land Management Act of March 30, 2009 (Pub. L. 111-11). For more information, please see the Reclamation press release at https://www.usbr.gov/newsroom/#/news-release/4205.

Modified contract actions:

10. Pershing County Water Conservation District, Pershing County, State of Nevada, and Lander County; Humboldt Project; Nevada: Title transfer of lands and features of the Humboldt Project.

15. City of Santa Barbara, Cachuma Project, California: Execution of a long-term Warren Act contract with the City for conveyance of non-project water in Cachuma Project facilities.

16. Non-federal Operating Entities and Contractors with O&M responsibilities for transferred works; California, Nevada, and Oregon: Contracts for XM and replacement funded pursuant to Title IX, Subtitle G of Pub. L. 111-11.

Discontinued contract action:

12. Placer County Water Agency, CVP, California: Proposed exchange agreement under section 14 of the Reclamation Project Act of 1939 to exchange up to 71,000 acre-feet annually of the Agency's American River Middle Fork Project water for use by Reclamation, for a like amount of CVP water from the Sacramento River for use by the Agency.

Completed contract actions:

25. California Department of Fish and Game, CVP, California: To extend the term of and amend the existing water service contract for the Department's San Joaquin Fish Hatchery to allow an increase from 35 to 60 cubic feet per second of continuous flow to pass through the Hatchery prior to it returning to the San Joaquin River. Contract executed on May 24, 2022.

31. Gray Lodge Wildlife Area, CVP, California: Reimbursement agreement between the California Department of Fish and Wildlife and Reclamation for groundwater pumping costs. Groundwater will provide a portion of Gray Lodge Wildlife Area's Central Valley Improvement Act Level 4 water supplies. This action is taken pursuant to Public Law 102-575, Title 34, Section 3406(d)(1, 2 and 5), to meet full Level 4 water needs of the Gray Lodge Wildlife Area. Contract executed in September 2016.

32. State of Nevada, Newlands Project, Nevada: Title transfer of lands and features of Carson Lake and Pasture. Contract executed in March 2021.

33. Washoe County Water Conservation District, Truckee Storage Project, Nevada: Repayment contract for costs associated with SOD work on Boca Dam. Contract executed on May 17, 2018.

Christopher Beardsley,
Director, Policy and Programs.

[FR Doc. 2022-17771 Filed 8-17-22; 8:45 am]

BILLING CODE 4332-90-P